DEPARTMENT OF TRANSPORTATION

National Highway Traffic Safety Administration

49 CFR Part 541

[Docket No. NHTSA-2002-11443; Notice 02]

RIN 2127-AJ00

Final Theft Data; Motor Vehicle Theft Prevention Standard

AGENCY: National Highway Traffic Safety Administration (NHTSA), Department of Transportation.

ACTION: Publication of final theft data.

SUMMARY: This document publishes the final data on thefts of model year (MY) 2001 passenger motor vehicles that occurred in calendar year (CY) 2001. The final 2001 theft data indicate an increase in the vehicle theft rate experienced in CY/MY 2001. The final theft rate for MY 2001 passenger vehicles stolen in calendar year 2001 (3.26 thefts per thousand vehicles) increased by 12.8 percent from the theft rate for CY/MY 2000 (2.89 thefts per thousand vehicles) when compared to the theft rate experienced in CY/MY 2000. Publication of these data fulfills NHTSA's statutory obligation to periodically obtain accurate and timely theft data and publish the information for review and comment.

FOR FURTHER INFORMATION CONTACT: Ms. Deborah Mazyck, Office of Planning and Consumer Standards, NHTSA, 400 Seventh Street, SW., Washington, DC 20590. Ms. Mazyck's telephone number is (202) 366-0846. Her fax number is (202) 493-2290.

SUPPLEMENTARY INFORMATION: NHTSA administers a program for reducing motor vehicle theft. The central feature of this program is the Federal Motor Vehicle Theft Prevention Standard, 49 CFR part 541. The standard specifies performance requirements for inscribing and affixing vehicle identification numbers (VINs) onto certain major original equipment and replacement parts of high-theft lines of passenger motor vehicles.

The agency is required by 49 U.S.C. 33104(b)(4) to periodically obtain, from the most reliable source, accurate and timely theft data and publish the data for review and comment. To fulfill this statutory mandate, NHTSA has published theft data annually beginning with MYs 1983/84. Continuing to fulfill the section 33104(b)(4) mandate, this document reports the final theft data for CY 2001, the most recent calendar year for which data are available.

In calculating the 2001 theft rates, NHTSA followed the same procedures it used in calculating the MY 2000 theft rates. (For 2000 theft data calculations, see 67 FR 53756, August 19, 2002.) As in all previous reports, NHTSA's data were based on information provided to NHTSA by the National Crime Information Center (NCIC) of the Federal Bureau of Investigation. The NCIC is a government system that receives vehicle theft information from nearly 23,000 criminal justice agencies and other law enforcement authorities throughout the United States. The NCIC data also include reported thefts of self-insured and uninsured vehicles, not all of which are reported to other data sources.

The 2001 theft rate for each vehicle line was calculated by dividing the number of reported thefts of MY 2001 vehicles of that line stolen during calendar year 2001 by the total number of vehicles in that line manufactured for MY 2001, as reported to the Environmental Protection Agency (EPA).

The final 2001 theft data show an increase in the vehicle theft rate when compared to the theft rate experienced in CY/MY 2000. The final theft rate for MY 2001 passenger vehicles stolen in calendar year 2001 increased to 3.26 thefts per thousand vehicles produced, an increase of 12.8 percent from the rate of 2.89 thefts per thousand vehicles experienced by MY 2000 vehicles in CY 2000. For MY 2001 vehicles, out of a total of 217 vehicle lines, 67 lines had a theft rate higher than 3.5826 per thousand vehicles, the established median theft rate for MYs 1990/1991. (See 59 FR 12400, March 16, 1994.) Of the 67 vehicle lines with a theft rate higher than 3.5826, 56 are passenger car lines, eight are multipurpose passenger vehicle lines, and none are light-duty truck lines.

On Tuesday, April 15, 2003, NHTSA published the preliminary theft rates for CY 2001 passenger motor vehicles in the Federal Register (68 FR 18181). The agency tentatively ranked each of the MY 2001 vehicle lines in descending order of theft rate. The public was requested to comment on the accuracy of the data and to provide final production figures for individual vehicle lines. The agency used written comments to make the necessary adjustments to its data. As a result of the adjustments, some of the final theft rates and rankings of vehicle lines changed from those published in the April 2003 notice. The agency received written comments from DaimlerChrysler Corporation (DaimlerChrysler) and Volkswagen of America, Inc. (VW). In its comments, DaimlerChrysler informed the agency that the production volumes listed for the Chrysler Town & Country and the Chrysler Voyager lines were incorrect. Specifically, the production volume for the Chrysler Town and Country reflected the Town & Country all-wheel drive vehicles only. The production volume for the Chrysler Voyager reflected the total volume for the Voyager and Town & Country 2-wheel drive vehicles. In response to this comment, the production volumes for the Chrysler Town & Country and the Chrysler Voyager have been corrected and the final theft list has been revised accordingly. As a result of the correction, the Chrysler Town & Country previously ranked No. 1 with a theft rate of 22.9800, is now ranked No. 143 with a theft rate of 1.7196, and the Chrysler Voyager previously ranked No. 199 with a theft rate of 0.4605 is now ranked No. 120 with a theft rate of 2.1700.

Volkswagen also informed the agency that the production volumes for the Audi S4/Quattro and the Audi A6/Quattro were incorrect. Upon later review by Volkswagen, it was confirmed that the listed production volumes were not in error. Therefore, the production volumes will remain unchanged.

The following list represents NHTSA's final calculation of theft rates for all 2001 passenger motor vehicle lines. This list is intended to inform the public of calendar year 2001 motor vehicle thefts of model year 2001 vehicles and does not have any effect on the obligations of regulated parties under 49 U.S.C. Chapter 331, Theft Prevention.

Final Theft Rates of Model Year 2001 Passenger Motor Vehicles Stolen in Calendar Year 2001
No. | Manufacturer | Make/model (line) | Thefts 2001 | Production (Mfr's) 2001 | 2001 theft rate (per 1,000 vehicles produced)
1 | Daimler Chrysler | Dodge Intrepid | 1,442 | 113,333 | 12.7236
2 | General Motors | Chevrolet Metro | 199 | 15,999 | 12.4383
3 | Honda | Acura Integra | 148 | 14,092 | 10.5024
4 | Daimlerchrysler | Plymouth Neon | 400 | 38,651 | 10.3490
5 | Daimlerchrysler | Dodge Neon | 1,047 | 101,410 | 10.3244
6 | DaimlerChrlysler | Dodge Stratus | 1,115 | 109,015 | 10.2280
7 | Mitsubishi | Mirage | 447 | 48,393 | 9.2369
8 | Suzuki | Esteem | 152 | 18,713 | 8.1227
9 | DaimlerChrlysler | Chrysler LHS | 86 | 11,413 | 7.5353
10 | General Motors | Pontiac Firebird/Trans AM/Formula | 149 | 20,084 | 7.4188
11 | Mitsubishi | Galant | 729 | 102,990 | 7.0784
12 | General Motors | Chevrolet Camaro | 193 | 28,278 | 6.8251
13 | Mitsubishi | Montero | 258 | 38,599 | 6.6841
14 | General Motors | Pontiac Grand Am | 1,192 | 182,220 | 6.5415
15 | General Motors | Buick Regal | 340 | 52,492 | 6.4772
16 | Mitsubishi | Montero Sport | 402 | 64,115 | 6.2700
17 | Jaguar | S-Type | 126 | 20,102 | 6.2680
18 | Ford Motor Co. | Ford Escort | 536 | 87,019 | 6.1596
19 | Ford Motor Co. | Lincoln LS | 256 | 41,817 | 6.1219
20 | DaimlerChrlysler | Chrysler 300M | 228 | 37,284 | 6.1152
21 | General Motors | Pontiac Sunfire | 445 | 73,808 | 6.0292
22 | Honda | Acura NSX | 1 | 167 | 5.9880
23 | Mitsubishi | Diamante | 77 | 13,667 | 5.6340
24 | Ford Motor Co. | Ford Mustang | 869 | 155,039 | 5.6050
25 | DaimlerChrlysler | Chrysler Sebring | 407 | 73,543 | 5.5342
26 | KIA Motors | Optima | 134 | 24,754 | 5.4133
27 | DaimlerChrlysler | Chrysler Concorde | 147 | 28,030 | 5.2444
28 | General Motors | Chevrolet Cavalier | 1,136 | 217,438 | 5.2245
29 | Suzuki | Vitara/Grand | 281 | 53,810 | 5.2221
30 | Toyota | Corolla | 1,201 | 230,246 | 5.2162
31 | Nissan | Altima | 706 | 137,253 | 5.1438
32 | General Motors | Chevrolet Malibu | 956 | 186,788 | 5.1181
33 | DaimlerChrlysler | Chrysler Sebring Convertible | 200 | 39,668 | 5.0418
34 | Toyota | Lexus IS | 155 | 30,959 | 5.0066
35 | General Motors | Chevrolet Lumina | 213 | 42,803 | 4.9763
36 | General Motors | Oldsmobile Alero | 548 | 112,455 | 4.8731
37 | General Motors | Cadillac DeVille | 428 | 87,909 | 4.8687
38 | Isuzu | Trooper | 91 | 18,818 | 4.8358
39 | KIA Motors | Rio | 276 | 57,340 | 4.8134
40 | Mitsubishi | Eclipse | 380 | 79,034 | 4.8081
41 | Mazda | Millenia | 85 | 17,969 | 4.7304
42 | General Motors | Chevrolet Monte Carlo | 324 | 68,518 | 4.7287
43 | Audi | S4/Quattro | 72 | 15,301 | 4.7056
44 | Toyota | 4Runner | 373 | 83,052 | 4.4912
45 | General Motors | GMC Jimmy S15/T15 | 209 | 46,905 | 4.4558
46 | DaimlerChrlysler | Chrysler Neon¹ | 3 | 682 | 4.3988
47 | Nissan | Maxima | 447 | 102,260 | 4.3712
48 | Hyundai | Sonata | 204 | 46,989 | 4.3414
49 | Rolls-Royce | Bentley Arnage | 2 | 466 | 4.2918
50 | General Motors | Oldsmobile Intrigue | 168 | 39,491 | 4.2541
51 | Jaguar | XK8 | 19 | 4,501 | 4.2213
52 | General Motors | Chevrolet Prizm | 209 | 50,141 | 4.1682
53 | DaimlerChrlysler | Jeep Cherokee/Grand | 1,376 | 338,673 | 4.0629
54 | Honda | Prelude | 46 | 11,329 | 4.0604
55 | General Motors | Oldsmobile Bravada | 44 | 10,935 | 4.0238
56 | General Motors | Pontiac Bonneville | 175 | 43,842 | 3.9916
57 | KIA Motors | Sephia/Spectra | 296 | 74,516 | 3.9723
58 | General Motors | Pontiac Grand Prix | 466 | 117,647 | 3.9610
59 | Mercedes-Benz | 129 (SL-Class) | 16 | 4,080 | 3.9216
60 | Isuzu | Rodeo | 242 | 62,963 | 3.8435
61 | General Motors | Chevrolet Blazer S10/T10 | 629 | 163,771 | 3.8407
62 | General Motors | Chevrolet Corvette | 124 | 33,204 | 3.7345
63 | KIA Motors | Sportage | 215 | 57,927 | 3.7116
64 | Ford Motor Co. | Lincoln Town Car | 255 | 68,832 | 3.7047
65 | Ford Motor Co. | Mercury Sable | 364 | 98,867 | 3.6817
66 | Daewoo | Leganza | 73 | 20,112 | 3.6297
67 | Ford Motor Co. | Ford Focus | 964 | 267,470 | 3.6041
68 | Toyota | Celica | 126 | 35,540 | 3.5453
69 | Ford Motor Co. | Ford Taurus | 1,238 | 351,813 | 3.5189
70 | Toyota | Lexus GS | 105 | 29,858 | 3.5166
71 | General Motors | Cadillac Seville | 88 | 25,157 | 3.4980
72 | Mercedes-Benz | 215 (CL-Class) | 11 | 3,162 | 3.4788
73 | Suzuki | Swift | 15 | 4,375 | 3.4286
74 | Mazda | 626 | 173 | 51,355 | 3.3687
75 | BMW | Z8 | 3 | 895 | 3.3520
76 | Hyundai | Accent | 256 | 77,491 | 3.3036
77 | Nissan | Infiniti Q45 | 6 | 1,846 | 3.2503
78 | Daewoo | Lanos | 69 | 21,626 | 3.1906
79 | Toyota | Camry | 1,123 | 353,219 | 3.1793
80 | General Motors | Chevrolet Impala | 597 | 188,248 | 3.1713
81 | Nissan | Sentra | 335 | 106,549 | 3.1441
82 | Ford Motor Co. | Mercury Mountaineer | 45 | 14,439 | 3.1166
83 | Toyota | Lexus LX | 31 | 9,967 | 3.1103
84 | DaimlerChrysler | Chrysler Prowler | 5 | 1,632 | 3.0637
85 | Ford Motor Co. | Ford Explorer | 1,050 | 344,002 | 3.0523
86 | DaimlerChrysler | Dodge Caravan/Grand | 649 | 218,302 | 2.9729
87 | Jaguar | XJ8 | 17 | 5,960 | 2.8523
88 | Hyundai | Tiburon | 64 | 22,713 | 2.8178
89 | General Motors | Oldsmobile Aurora | 140 | 50,034 | 2.7981
90 | General Motors | Saturn LS | 222 | 79,562 | 2.7903
91 | Nissan | Frontier Pickup | 286 | 102,545 | 2.7890
92 | Mercedes-Benz | 220 (S-Class) | 85 | 31,977 | 2.6582
93 | Ford Motor Co. | Ford Ranger Pickup | 708 | 266,960 | 2.6521
94 | BMW | 3 | 307 | 117,873 | 2.6045
95 | Daewoo | Nubira | 35 | 13,450 | 2.6022
96 | Volvo | C70 | 14 | 5,462 | 2.5632
97 | Nissan | Infiniti G20 | 18 | 7,087 | 2.5399
98 | Jaguar | XKR | 4 | 1,588 | 2.5189
99 | DaimlerChrysler | Jeep Wrangler | 163 | 66,366 | 2.4561
100 | Honda | Acura 3.2 CL | 94 | 38,679 | 2.4303
101 | General Motors | Chevrolet Astro Van | 104 | 42,909 | 2.4237
102 | General Motors | Buick Park Avenue | 88 | 36,407 | 2.4171
103 | Jaguar | XJR | 3 | 1,256 | 2.3885
104 | Hyundai | Santa Fe | 121 | 51,088 | 2.3685
105 | Toyota | Lexus LS | 75 | 31,738 | 2.3631
106 | Hyundai | XG | 47 | 19,894 | 2.3625
107 | General Motors | Buick Lesabre | 327 | 140,202 | 2.3323
108 | Honda | S2000 | 23 | 9,945 | 2.3127
109 | Mazda | Protege | 110 | 47,754 | 2.3035
110 | Honda | Passport | 39 | 16,999 | 2.2943
111 | Mercedes-Benz | 208 (CLK-Class) | 34 | 14,940 | 2.2758
112 | General Motors | GMC Safari Van | 33 | 14,549 | 2.2682
113 | General Motors | Buick Century | 285 | 126,295 | 2.2566
114 | Ford Motor Co. | Mercury Cougar | 58 | 25,810 | 2.2472
115 | Audi | TT/Quattro | 47 | 21,022 | 2.2358
116 | BMW | 7 | 57 | 25,548 | 2.2311
117 | DaimlerChrysler | Plymouth Prowler | 3 | 1,353 | 2.2173
118 | Volvo | S40 | 69 | 31,145 | 2.2154
119 | Jaguar | Vanden Plas | 8 | 3,617 | 2.2118
120 | DaimlerChrysler | Chrysler Voyager | 78 | 35,944 | 2.1700
121 | General Motors | Chevrolet S10/T10 Pickup | 354 | 166,708 | 2.1235
122 | Ford Motor Co. | Ford F150 Pickup | 293 | 138,481 | 2.1158
123 | Honda | Acura 3.5 RL | 7 | 3,312 | 2.1135
124 | Volvo | S80 | 53 | 25,203 | 2.1029
125 | Subaru | Impreza | 19 | 9,205 | 2.0641
126 | Toyota | Tacoma Pickup | 330 | 160,222 | 2.0596
127 | Ford Motor Co | Mercury Grand Marquis | 215 | 104,890 | 2.0498
128 | Hyundai | Elantra | 217 | 106,418 | 2.0391
129 | General Motors | GMC Sonoma Pickup | 86 | 42,536 | 2.0218
130 | General Motors | Saturn SC | 94 | 46,557 | 2.0190
131 | Toyota Tundra | Pickup | 38 | 19,191 | 1.9801
132 | Toyota | RAV4 | 172 | 87,108 | 1.9746
133 | General Motors | Saturn SL | 214 | 108,946 | 1.9643
134 | Toyota | Echo | 103 | 52,694 | 1.9547
135 | Nissan | Pathfinder | 172 | 89,836 | 1.9146
136 | BMW | 5 | 76 | 40,591 | 1.8723
137 | Porsche | 911 | 20 | 10,931 | 1.8297
138 | Volkswagen | Jetta | 281 | 153,706 | 1.8282
139 | Nissan | Infiniti I30 | 70 | 39,505 | 1.7719
140 | Honda | Civic | 603 | 341,401 | 1.7663
141 | Nissan | Xterra | 170 | 96,255 | 1.7661
142 | Honda | Accord | 665 | 379,508 | 1.7523
143 | Daimler-Chrysler | Chrysler Town & Country MPV | 248 | 144,218 | 1.7196
144 | Volkswagen | Golf/GTI | 56 | 32,736 | 1.7107
145 | Volvo | V40 | 7 | 4,109 | 1.7036
146 | Saab | 9-5 | 39 | 23,016 | 1.6945
147 | Mercedes-Benz | ML | 68 | 40,257 | 1.6891
148 | Mazda | B-Series Pickup | 46 | 27,490 | 1.6733
149 | Audi | A4/Quattro | 58 | 35,023 | 1.6561
150 | Nissan | Infiniti QX4 | 59 | 36,778 | 1.6042
151 | Daimler-Chrysler | Chrysler PT Cruiser | 279 | 176,326 | 1.5823
152 | General Motors | Cadillac Catera | 18 | 11,568 | 1.5560
153 | General Motors | Pontiac Aztek | 63 | 41,111 | 1.5324
154 | Toyota | Lexus ES | 54 | 35,282 | 1.5305
155 | Ford Motor CO | Ford Windstar Van | 275 | 179,687 | 1.5304
156 | Volvo | V70 | 25 | 16,408 | 1.5236
157 | General Motors | Saturn SW | 6 | 3,973 | 1.5102
158 | Ford Motor CO | Lincoln Continental | 32 | 21,341 | 1.4995
159 | Isuzu | Vehicross | 2 | 1,347 | 1.4848
160 | Audi | A6/Quattro | 39 | 26,592 | 1.4666
161 | Porsche | Boxster | 19 | 12,979 | 1.4639
162 | Daimler-Chrysler | Dodge Dakota Pickup | 230 | 158,303 | 1.4529
163 | Toyota | MR2 Spyder | 10 | 6,950 | 1.4388
164 | Ford Motor CO | Ford Escape | 214 | 151,295 | 1.4145
165 | General Motors | Pontiac Montana Van | 71 | 50,437 | 1.4077
166 | Toyota | Lexus RX | 121 | 86,206 | 1.4036
167 | Mercedes-Benz | 170 (SLK-Class) | 22 | 16,294 | 1.3502
168 | Mercedes-Benz | 210 (E-Class) | 67 | 49,628 | 1.3500
169 | Honda | Acura 3.2 TL | 46 | 34,860 | 1.3196
170 | General Motors | Chevrolet Venture Van | 110 | 85,346 | 1.2889
171 | Audi | S8/Quattro | 1 | 814 | 1.2285
172 | Daimler-Chrysler | Dodge Viper | 2 | 1,643 | 1.2173
173 | Nissan | Quest Van | 37 | 31,402 | 1.1783
174 | Toyota | Sienna Van | 99 | 85,794 | 1.1539
175 | Volkswagen | New Beetle | 83 | 72,350 | 1.1472
176 | Mercedes-Benz | 203 (C-Class) | 36 | 32,931 | 1.0932
177 | Volkswagen | Passat | 90 | 82,870 | 1.0860
178 | Volkswagen | Cabrio | 16 | 15,479 | 1.0337
179 | Toyota | Avalon | 79 | 77,925 | 1.0138
180 | General Motors | Chevrolet Tracker | 108 | 108,204 | 0.9981
181 | General Motors | Oldsmobile Silhouette Van | 36 | 36,278 | 0.9923
182 | Ford Motor CO | Mercury Villager Van | 18 | 18,169 | 0.9907
183 | Volvo | S60 | 32 | 33,335 | 0.9600
184 | Saab | 9-3 | 20 | 20,920 | 0.9560
185 | Volvo | XC | 25 | 27,082 | 0.9231
186 | Audi | A8/Quattro/L | 2 | 2,177 | 0.9187
187 | Honda | CR-V | 99 | 117,003 | 0.8461
188 | Volkswagen | Eurovan/Camper | 3 | 3,652 | 0.8215
189 | BMW | M/Z3 | 15 | 18,627 | 0.8053
190 | General Motors | Cadillac Eldorado | 8 | 10,289 | 0.7775
191 | Mazda | Tribute | 42 | 55,827 | 0.7523
192 | Toyota | Highlander | 52 | 69,706 | 0.7460
193 | Subaru | Legacy/Outback | 73 | 98,623 | 0.7402
194 | Honda | Acura MDX | 30 | 41,081 | 0.7303
195 | Mazda | MX-5 Miata | 12 | 18,040 | 0.6652
196 | Mazda | MPV | 23 | 36,356 | 0.6326
197 | Subaru | Forester | 37 | 63,015 | 0.5872
198 | Ford Motor CO | Ford LTD/Crown Victoria | 50 | 89,572 | 0.5582
199 | General Motors | Saturn LW | 5 | 9,223 | 0.5421
200 | Toyota | Prius | 7 | 15,773 | 0.4438
201 | Audi | Allroad/Quattro | 3 | 6,840 | 0.4386
202 | Honda | Odyssey Minivan | 54 | 123,522 | 0.4372
203 | Quantum Tech | Cavalier | 1 | 2,417 | 0.4137
204 | Honda | Insight | 1 | 3,426 | 0.2919
205 | Aston-Martin | DB-7/Vantage/Coupe/Volante | 0 | 348 | 0.0000
206 | Rolls-Royce | Bentley Azure | 0 | 100 | 0.0000
207 | Rolls-Royce | Bentley Continental R | 0 | 22 | 0.0000
208 | Rolls-Royce | Bentley Continental T | 0 | 8 | 0.0000
209 | General Motors | Cadillac Funeral Coach/Hearse | 0 | 2,203 | 0.0000
210 | Ferrari | 360 | 0 | 723 | 0.0000
211 | Ferrari | 456 | 0 | 64 | 0.0000
212 | Ferrari | 550 | 0 | 290 | 0.0000
213 | Lamborghini | DB132/144 Diablo | 0 | 150 | 0.0000
214 | Rolls-Royce | Corniche | 0 | 45 | 0.0000
215 | Rolls-Royce | Park Ward | 0 | 28 | 0.0000
216 | Rolls-Royce | Silver Seraph | 0 | 51 | 0.0000
217 | Mitsubishi | ² Nativa | 0 | 1,653 | 0.0000
¹ This vehicle was manufactured under the Chrysler nameplate for sale in a U.S. Territories only (Guam, American Samoa, Puerto Rico) and the Virgin Islands, (St. Thomas & St. Croix).
² This vehicle was manufactured for sale only in Puerto Rico and represents the U.S. version of the Montero Sport line.

Issued on: September 12, 2003.
Stephen R. Kratzke,
Associate Administrator for Rulemaking.

[FR Doc. 03-23874 Filed 9-17-03; 8:45 am]

BILLING CODE 4910-59-P